DEPARTMENT OF TRANSPORTATION

Federal Aviation Administration

14 CFR Part 39

[Docket No. FAA-2021-0096; Project Identifier MCAI-2021-00040-R; Amendment 39-21440; AD 2021-04-18]

RIN 2120-AA64

Airworthiness Directives; Airbus Helicopters

AGENCY: Federal Aviation Administration (FAA), DOT.

ACTION: Final rule; request for comments.

SUMMARY: The FAA is superseding Airworthiness Directive (AD) 2020-23-02, which applied to all Airbus Helicopters Model EC225LP helicopters. AD 2020-23-02 required repetitive inspections of the bearing in the swashplate assembly of the main rotor mast assembly for discrepancies (ceramic balls that have a hard point or sensitive axial play or both) and, depending on the findings, replacement of an affected main rotor mast assembly with a serviceable main rotor mast assembly. Since the FAA issued AD 2020-23-02, the FAA has determined additional main rotor mast assemblies are affected by the unsafe condition. This AD continues to require the actions specified in AD 2020-23-02, and also includes additional affected main rotor mast assemblies; as specified in a European Union Aviation Safety Agency (EASA) AD, which is incorporated by reference. The FAA is issuing this AD to address the unsafe condition on these products.

DATES: This AD becomes effective March 25, 2021.

The Director of the Federal Register approved the incorporation by reference of a certain publication listed in this AD as of March 25, 2021.

The FAA must receive comments on this AD by April 26, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For material incorporated by reference (IBR) in this AD, contact the EASA, Konrad-Adenauer-Ufer 3, 50668 Cologne, Germany; phone: +49 221 8999 000; email: ADs@easa.europa.eu; internet: www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0096.

Examining the AD Docket

You may examine the AD docket on the internet at https://www.regulations.gov by searching for and locating Docket No. FAA-2021-0096; or in person at Docket Operations between 9 a.m. and 5 p.m., Monday through Friday, except Federal holidays. The AD docket contains this AD, any comments received, and other information. The street address for Docket Operations is listed above. Comments will be available in the AD docket shortly after receipt.

FOR FURTHER INFORMATION CONTACT: Kathleen Arrigotti, Aerospace Engineer, Large Aircraft Section, International Validation Branch, FAA, 2200 South 216th St., Des Moines, WA 98198; phone and fax: 206-231-3218; email: kathleen.arrigotti@faa.gov.

SUPPLEMENTARY INFORMATION:

Discussion

The FAA issued AD 2020-23-02, Amendment 39-21318 (85 FR 73607, November 19, 2020) (AD 2020-23-02), which applied to all Airbus Helicopters Model EC225LP helicopters. AD 2020-23-02 required repetitive inspections of the bearing in the swashplate assembly of the main rotor mast assembly for discrepancies (ceramic balls that have a hard point or sensitive axial play or both) and, depending on the findings, replacement of an affected main rotor mast assembly with a serviceable main rotor mast assembly. The FAA issued AD 2020-23-02 to address defective ceramic balls in the bearing installed in the swashplate assembly of the main rotor mast assembly, which could lead to premature spalling of the ball itself and of the bearing, loss of function of the bearing, and overload of the main rotor mast scissor, resulting in reduced control of the helicopter.

Actions Since AD 2020-23-02 Was Issued

Since the FAA issued AD 2020-23-02, the FAA has determined that additional main rotor mast assemblies are affected by the unsafe condition.

The EASA, which is the Technical Agent for the Member States of the European Union, has issued EASA AD 2020-0264, dated December 2, 2020 (EASA AD 2020-0264) (also referred to as the Mandatory Continuing Airworthiness Information, or the MCAI), to correct an unsafe condition for all Airbus Helicopters Model EC225LP helicopters. EASA AD 2020-0264 supersedes EASA AD 2020-0079, dated April 1, 2020 (which corresponds to FAA AD 2020-23-02).

This AD was prompted by a report of a manufacturing and control issue regarding the ceramic balls in the bearing installed in the swashplate assembly of the main rotor mast assembly. The FAA is issuing this AD to address defective ceramic balls in the bearing installed in the swashplate assembly of the main rotor mast assembly, which could lead to premature spalling of the ball itself and of the bearing, loss of function of the bearing, and overload of the main rotor mast scissor, resulting in reduced control of the helicopter. See the MCAI for additional background information.

Explanation of Retained Requirements

Although this AD does not explicitly restate the requirements of AD 2020-23-02, this AD retains all of the requirements of AD 2020-23-02. Those requirements are referenced in EASA AD 2020-0264, which, in turn, is referenced in paragraph (g) of this AD.

Related Service Information Under 1 CFR Part 51

EASA AD 2020-0264 describes procedures for repetitive inspections of the main rotor mast swashplate assembly for discrepancies (ceramic balls that have a hard point or sensitive axial play or both), and replacement of an affected main rotor mast assembly with a serviceable main rotor mast assembly. This material is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI referenced above. The FAA is issuing this AD because the FAA has evaluated all pertinent information and determined the unsafe condition exists and is likely to exist or develop on other products of products of the same type design.

Requirements of This AD

This AD requires accomplishing the actions specified in EASA AD 2020-0264 described previously, as incorporated by reference, except for any differences identified as exceptions in the regulatory text of this AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, in EASA AD 2020-0264 is incorporated by reference in this AD. This AD, therefore, requires compliance with EASA AD 2020-0264 in its entirety, through that incorporation, except for any differences identified as exceptions in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0264 that is required for compliance with EASA AD 2020-0264 is available on the internet at https://www.regulations.gov by searching for and locating Docket No. FAA-2021-0096.

Interim Action

The FAA considers this AD interim action and further AD action may follow.

FAA's Justification and Determination of the Effective Date

Section 553(b)(3)(B) of the Administrative Procedure Act (5 U.S.C.) authorizes agencies to dispense with notice and comment procedures for rules when the agency, for “good cause” finds that those procedures are “impracticable, unnecessary, or contrary to the public interest.” Under this section, an agency, upon finding good cause, may issue a final rule without seeking comment prior to the rulemaking

An unsafe condition exists that requires the immediate adoption of this AD without providing an opportunity for public comments prior to adoption. The FAA has found that the risk to the flying public justifies waiving notice and comment prior to adoption of this rule because defective ceramic balls in the bearing installed in the swashplate assembly of the main rotor mast assembly could lead to premature spalling of the ball itself and of the bearing, loss of function of the bearing, and overload of the main rotor mast scissor, resulting in reduced control of the helicopter. This AD adds other affected main rotor mast assemblies to those identified in AD 2020-23-02. In addition, the compliance time for the initial instance of the repetitive inspections is 50 hours time-in-service, a time period of less than 2 months based on the average flight-hour utilization rate of these helicopters. Accordingly, the compliance time for the required action is shorter than the time necessary for the public to comment and for publication of the final rule. Therefore, notice and opportunity for prior public comment are impracticable and contrary to public interest pursuant to 5 U.S.C. 553(b)(3)(B). In addition, for the reasons stated above, the FAA finds that good cause exists pursuant to 5 U.S.C. 553(d) for making this amendment effective in less than 30 days.

Comments Invited

The FAA invites you to send any written relevant data, views, or arguments about this AD. Send your comments to an address listed under ADDRESSES. Include “Docket No. FAA-2021-0096; Project Identifier MCAI-2021-00040-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kathleen Arrigotti, Aerospace Engineer, Large Aircraft Section, International Validation Branch, FAA, 2200 South 216th St., Des Moines, WA 98198; phone and fax: 206-231-3218; email: kathleen.arrigotti@faa.gov. Any commentary that the FAA receives which is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 30 helicopters of U.S. registry. The FAA estimates the following costs to comply with this AD:

Estimated Costs for Required Actions
Actions | Labor cost | Parts cost | Cost per product | Cost on U.S. operators
Retained actions from AD 2020-23-02 | 4 work-hours × $85 per hour = $340 | $0 | $340 | $10,200
New actions | 4 work-hours × $85 per hour = $340 | 0 | 340 | 10,200

The FAA estimates the following costs to do any necessary on-condition action that would be required based on the results of any required action. The FAA has no way of determining the number of helicopters that might need this on-condition action:

Estimated Costs of On-Condition Actions
Labor cost | Parts cost | Cost per product
100 work-hours × $85 per hour = $8,500 | (*) | * $8,500
* Airbus Helicopters informed the FAA that the parts cost will vary for each aircraft, and be determined by several factors, including the condition of the returned assembly. Airbus Helicopters provided information indicating the cost may be as low as $270,000 per aircraft. For the purposes of this AD, the FAA estimates the average cost will be between $270,000 and $500,000 per aircraft.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2020-23-02, Amendment 39-21318 (85 FR 73607, November 19, 2020), and adding the following new AD:

2021-04-18 Airbus Helicopters: Amendment 39-21440; Docket No. FAA-2021-0096; Project Identifier MCAI-2021-00040-R.

(a) Effective Date

This airworthiness directive (AD) becomes effective March 25, 2021.

(b) Affected ADs

This AD replaces AD 2020-23-02, Amendment 39-21318 (85 FR 73607, November 19, 2020) (AD 2020-23-02).

(c) Applicability

This AD applies to Airbus Helicopters Model EC225LP helicopters, certificated in any category, all manufacturer serial numbers.

(d) Subject

Joint Aircraft System Component (JASC) Code 6230, Main Rotor Mast/Swashplate.

(e) Reason

This AD was prompted by a report of a manufacturing and control issue regarding the ceramic balls in the bearing installed in the swashplate assembly of the main rotor mast assembly. The FAA is issuing this AD to address defective ceramic balls in the bearing installed in the swashplate assembly of the main rotor mast assembly, which could lead to premature spalling of the ball itself and of the bearing, loss of function of the bearing, and overload of the main rotor mast scissor, resulting in reduced control of the helicopter.

(f) Compliance

Comply with this AD within the compliance times specified, unless already done.

(g) Requirements

Except as specified in paragraph (h) of this AD: Comply with all required actions and compliance times specified in, and in accordance with, European Union Aviation Safety Agency (EASA) AD 2020-0264, dated December 2, 2020 (EASA AD 2020-0264).

(h) Exceptions to EASA AD 2020-0264

(1) Where EASA AD 2020-0264 refers to April 15, 2020 (the effective date of EASA AD 2020-0079), this AD requires using December 4, 2020 (the effective date of AD 2020-23-02).

(2) Where Table 1 of EASA AD 2020-0264 specifies a column heading of “FH Accumulated,” for this AD use hours time-in-service accumulated as of December 4, 2020 (the effective date of AD 2020-23-02).

(3) Where Table 2 of EASA AD 2020-0264 specifies a column heading of “FH Accumulated,” for this AD use hours time-in-service accumulated as of the effective date of this AD.

(4) Where EASA AD 2020-0264 refers to its effective date, this AD requires using the effective date of this AD.

(5) The “Remarks” section of EASA AD 2020-0264 does not apply to this AD.

(6) Although the service information referenced in EASA AD 2020-0264 specifies to return certain parts, this AD requires removing those parts from service instead.

(7) Where the service information referenced in EASA AD 2020-0264 specifies “compliance with the works steps concerned with the check is described in a video” this AD requires a complete rotation of the swashplate in both directions using a rate of one revolution per minute.

(8) Where EASA AD 2020-0264 refers to flight hours (FH), this AD requires using hours time-in-service. The guidance provided by Note 1 to Table 1 and Table 2 in EASA AD 2020-0264 is still applicable.

(i) No Reporting Requirement

Although the service information referenced in EASA AD 2020-0264 specifies to submit certain information to the manufacturer, this AD does not include that requirement.

(j) Special Flight Permit

Special flight permits, as described in 14 CFR 21.197 and 21.199, are not allowed.

(k) Alternative Methods of Compliance (AMOCs)

(1) The Manager, Strategic Policy Rotorcraft Section, FAA, has the authority to approve AMOCs for this AD, if requested using the procedures found in 14 CFR 39.19. In accordance with 14 CFR 39.19, send your request to your principal inspector or local Flight Standards District Office, as appropriate. If sending information directly to the manager of the Strategic Policy Rotorcraft Section, send it to: Manager, Strategic Policy Rotorcraft Section, FAA, 10101 Hillwood Pkwy., Fort Worth, TX 76177; phone: 817-222-5110. Information may be emailed to: 9-ASW-FTW-AMOC-Requests@faa.gov.

(2) Before using any approved AMOC, notify your appropriate principal inspector, or lacking a principal inspector, the manager of the local flight standards district office/certificate holding district office.

(l) Related Information

(1) For more information about this AD, contact Kathleen Arrigotti, Aerospace Engineer, Large Aircraft Section, International Validation Branch, FAA, 2200 South 216th St., Des Moines, WA 98198; phone and fax: 206-231-3218; email: kathleen.arrigotti@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0264, dated December 2, 2020.

(ii) [Reserved]

(3) For EASA AD 2020-0264, contact the EASA, Konrad-Adenauer-Ufer 3, 50668 Cologne, Germany; phone: +49 221 8999 000; email: ADs@easa.europa.eu; internet: www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0096.

(5) You may view this material that is incorporated by reference at the National Archives and Records Administration (NARA). For information on the availability of this material at NARA, email fedreg.legal@nara.gov, or go to https://www.archives.gov/federal-register/cfr/ibr-locations.html.

Issued on February 10, 2021.
Lance T. Gant,
Director, Compliance & Airworthiness Division, Aircraft Certification Service.

[FR Doc. 2021-04869 Filed 3-9-21; 8:45 am]

BILLING CODE 4910-13-P